ENVIRONMENTAL PROTECTION AGENCY

[OPPT-2003-0069; FRL-7338-7]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSC, EPA is required to publish a notice of receipt of a premanufacture notice (PMN) or an application for a test marketing exemption (TME), and to publish periodic status reports on the chemicals under review and the receipt of notices of commencement to manufacture those chemicals. This status report, which covers the period from October 1, 2003 to November 28, 2003, consists of the PMNs pending or expired, and the notices of commencement to manufacture a new chemical that the Agency has received under TSCA section 5 during this time period.

DATES: Comments identified by the docket ID number OPPT-2003-0069 and the specific PMN number or TME number, must be received on or before January 16, 2004.

ADDRESSES: Comments may be submitted electronically, by mail, or through hand delivery/courier. Follow the detailed instructions as provided in Unit I. of the SUPPLEMENTARY INFORMATION.

FOR FURTHER INFORMATION CONTACT: Barbara Cunningham, Director, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Copies of this Document and Other Related Information?

1. Docket. EPA has established an official public docket for this action under docket identification (ID) number OPPT-2003-0069. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number and specific PMN number or TME number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPPT-2003-0069. The system is an “anonymous access” system, which means EPA will not know your identity, e-mail address, or other contact information unless you provide it in the body of your comment.

ii. E-mail. Comments may be sent by e-mail to oppt.ncic@epa.gov, Attention: Docket ID Number OPPT-2003-0069 and PMN Number or TME Number. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Bldg., Rm. 6428, 1201 Constitution Ave., NW., Washington, DC. Attention: Docket ID Number OPPT-2003-0069 and PMN Number or TME Number. The DCO is open from 8 a.m. to 4 p.m., Monday through Friday, excluding legal holidays. The telephone number for the DCO is (202) 564-8930.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket ID number assigned to this action and the specific PMN number you are commenting on in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from October 1, 2003 to November 28, 2003, consists of the PMNs, pending or expired, and the notices of commencement to manufacture a new chemical that the Agency has received under TSCA section 5 during this time period.

III. Receipt and Status Report for PMNs

This status report identifies the PMNs, pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 149 Premanufacture Notices Received From: 10/1/03 to 11/28/03
Case No. | Received Date | Projected Notice End Date | Manufacturer/Importer | Use | Chemical
P-04-0001 | 10/01/03 | 12/29/03 | Toyo Color America, LLC | (S) Ultraviolet curable additive for optical lens | (S) Poly(oxy-1,2-ethanediyl),.alpha.-(1-oxo-2-propenyl)-.omega.-([1,1′-biphenyl]-2-yloxy)-
P-04-0002 | 10/01/03 | 12/29/03 | Toyo Color America, LLC | (S) Ultraviolet curable oligomer for optical lens | (S) Hexanedioic acid, polymer with 1,6-diisocyanatohexane, 1,6-diisocyanato-2,2,4-trimethylhexane, 1,6-diisocyanato-2,4,4-trimethylhexane, 1,1′-[(1-methylethylidene)bis(4,1-phenyleneoxy)]bis[2-propanol] and 3-methyl-1,5-pentanediol, 2-hyd roxyethyl acrylate-blocked
P-04-0003 | 10/01/03 | 12/29/03 | Toyo Color America, LLC | (S) Light stabilizer additive for ultraviolet curable glue | (S) 2-propenoic acid, 2-methyl-, 1,2,2,6,6-pentamethyl-4-piperidinyl ester
P-04-0004 | 10/01/03 | 12/29/03 | Toyo Color America, LLC | (S) Ultraviolet curable additive for optical lens | (S) Poly[oxy(methyl-1,2-ethanediyl)],.alpha.,.alpha′.-[(1-methylethylidine)di-4,1-phenylene]bis[.omega.-[(1-oxo-2-propenyl)oxy]-
P-04-0005 | 10/01/03 | 12/29/03 | CBI | (S) Adhesion promoter in sealants; coupling agent for industrial coatings | (G) Aminosilane
P-04-0006 | 10/01/03 | 12/29/03 | Brueggemann Chemical U.S., Inc. | (G) Additive | (G) Arylphosphine copper iodide
P-04-0007 | 10/01/03 | 12/29/03 | Meadwestvaco Corporation - Specialty Chemicals Division | (S) Intermediate used for sterol production | (G) Modified saponified tall oil distillates
P-04-0008 | 10/02/03 | 12/30/03 | Vantico Inc. | (S) Epoxy curing agent | (G) Phenol, 4,4′-(1-methylethylidene)bis-, polymer with (chloromethyl)oxirane, reaction products with an epoxide and triethylenetetramine
P-04-0009 | 10/03/03 | 12/31/03 | CBI | (G) Petroleum lubricant additive | (G) Alkylbenzene sulfonic acid
P-04-0010 | 10/02/03 | 12/30/03 | CBI | (G) Developer for thermal sensitive paper | (G) Salicylic acid compound
P-04-0011 | 10/03/03 | 12/31/03 | E. I. Dupont De Nemours and Company, Inc. | (G) Injection molded and extruded parts, films, ribbons, tubes and filaments for high heat applications | (G) Aromatic - aliphatic polyamides
P-04-0012 | 10/03/03 | 12/31/03 | E. I. Dupont De Nemours and Company, Inc. | (G) Injection molded and extruded parts, films, ribbons, tubes and filaments for high heat applications | (G) Aromatic - aliphatic polyamides
P-04-0013 | 10/03/03 | 12/31/03 | E. I. Dupont De Nemours and Company, Inc. | (G) Injection molded and extruded parts, films, ribbons, tubes and filaments for high heat applications | (G) Aromatic - aliphatic polyamides
P-04-0014 | 10/03/03 | 12/31/03 | E. I. Dupont De Nemours and Company, Inc. | (G) Injection molded and extruded parts, films, ribbons, tubes and filaments for high heat applications | (G) Aromatic - aliphatic polyamides
P-04-0015 | 10/03/03 | 12/31/03 | Gardere Wynne Sewell LLP | (S) Carrier for herbicides and pesticides; paint and ink formulations; indoor heating oil; solvent blend | (S) Alkanes, C8-12 - branched
P-04-0016 | 10/06/03 | 01/03/04 | CBI | (G) Open, non-dispersive (dyestuff) | (G) Azo dyestuff
P-04-0017 | 10/03/03 | 12/31/03 | CBI | (G) Low foaming cleanser additive | (G) Octyl-d-glucoside
P-04-0018 | 10/03/03 | 12/31/03 | E. I. Dupont De Nemours and Company, Inc. | (G) Intermediate | (G) Salts of aliphatic amine with aromatic acid or with mixed aromatic and aliphatic acids
P-04-0019 | 10/03/03 | 12/31/03 | E. I. Dupont De Nemours and Company, Inc. | (G) Intermediate | (G) Salts of aliphatic amine with aromatic acid or with mixed aromatic and aliphatic acids
P-04-0020 | 10/03/03 | 12/31/03 | E. I. Dupont De Nemours and Company, Inc. | (G) Intermediate | (G) Salts of aliphatic amine with aromatic acid or with mixed aromatic and aliphatic acids
P-04-0021 | 10/03/03 | 12/31/03 | E. I. Dupont De Nemours and Company, Inc. | (G) Intermediate | (G) Salts of aliphatic amine with aromatic acid or with mixed aromatic and aliphatic acids
P-04-0022 | 10/07/03 | 01/04/04 | Cognis Corporation | (G) Metal working fluid | (S) Fatty acids, C14-18 and C16-18 unsaturated-2-ethyl hexyl esters
P-04-0023 | 10/07/03 | 01/04/04 | Petroferm Inc. | (S) Slip and leveling additive to ultra violet and eb-cured inks, paints and coatings; oligomer in the manufacture of polymeric materials | (G) Allyl alcohol ethoxylate urethane
P-04-0024 | 10/07/03 | 01/04/04 | Petroferm Inc. | (S) Slip and leveling additive to ultra violet and eb-cured inks, paints and coatings; oligomer in the manufacture of polymeric materials | (G) Peg urethane
P-04-0025 | 10/07/03 | 01/04/04 | CBI | (G) Industrial coatings binder | (G) Aminated styrenate acrylic salt
P-04-0026 | 10/07/03 | 01/04/04 | Petroferm Inc. | (S) Slip and leveling additive to ultra violet and eb-cured inks, paints and coatings; oligomer in the manufacture of polymeric materials | (G) Combed silicone urethane
P-04-0027 | 10/07/03 | 01/04/04 | Petroferm Inc. | (S) Slip and leveling additive to ultra violet and eb-cured inks, paints and coatings; oligomer in the manufacture of polymeric materials | (G) Linear silicone urethane
P-04-0028 | 10/07/03 | 01/04/04 | CBI | (G) Intermediate for an electrical insulating coating | (G) Methylene di (phenylene isocyanate) polymer with substituted propanol and secondary butyl phenol
P-04-0029 | 10/08/03 | 01/05/04 | CBI | (S) Binder in hot melt inks | (G) Cyclic diamine bisamide with monocarboxylic fatty acids
P-04-0030 | 10/08/03 | 01/05/04 | CBI | (S) Binder in hot melt inks | (G) Cyclic diamine bisamide with monocarboxylic fatty acids
P-04-0031 | 10/08/03 | 01/05/04 | BASF Corporation | (G) Component used in the manufacture of polyurethane parts | (G) Hexanedioic acid, polymer with aliphatic diols and diisocyanate
P-04-0032 | 10/09/03 | 01/06/04 | CBI | (G) Papermaking Chemical, non-dispersive use | (G) Aminopolyamide resin
P-04-0033 | 10/09/03 | 01/06/04 | CBI | (G) Destructive use | (G) Hindered phenolic ester
P-04-0034 | 10/09/03 | 01/06/04 | Bp Amoco Chemical Company Inc. | (G) Grease thickener | (G) Lithium grease thickener
P-04-0035 | 10/09/03 | 01/06/04 | CBI | (G) Paper making chemical | (G) Cross-linked aminopolyamide resin
P-04-0036 | 10/10/03 | 01/07/04 | CBI | (G) Ingredients for use in consumer products: highly dispersive | (G) Heterocycle (oxa, thia, aza)
P-04-0037 | 10/10/03 | 01/07/04 | CBI | (G) Moisture curing polyurethane adhesives | (G) Isocyanate terminated urethane polymer
P-04-0038 | 10/10/03 | 01/07/04 | CBI | (G) Additive for plastics | (G) Acrylic polymer
P-04-0039 | 10/10/03 | 01/07/04 | CBI | (G) Chemical intermediate | (G) Hydroxycycloalkanone
P-04-0040 | 10/14/03 | 01/11/04 | CBI | (S) Surfactant for metal finishing baths | (G) Polyethylene glycol benzyl alkyl ether
P-04-0041 | 10/14/03 | 01/11/04 | CBI | (G) Fixing agent | (G) Polymeric amine
P-04-0042 | 10/14/03 | 01/11/04 | CBI | (G) Fixing agent | (G) Polymeric amine
P-04-0043 | 10/15/03 | 01/12/04 | CBI | (G) A component of a pigmented epoxy resin for coating and surfacing | (G) Epoxy amine adduct
P-04-0044 | 10/15/03 | 01/12/04 | CBI | (G) Lubricant base fluid | (G) Fatty acid esters with neopentyl glycol
P-04-0045 | 10/15/03 | 01/12/04 | CBI | (G) Coating binder | (G) Epoxy-acrylic copolymer
P-04-0046 | 10/17/03 | 01/14/04 | CBI | (G) Dispersant | (G) Polyether carboxylate
P-04-0047 | 10/17/03 | 01/14/04 | CBI | (G) Dispersant | (G) Polyether carboxylate
P-04-0048 | 10/17/03 | 01/14/04 | CBI | (G) Dispersant | (G) Polyether carboxylate
P-04-0049 | 10/17/03 | 01/14/04 | CBI | (G) Dispersant | (G) Polyether carboxylate
P-04-0050 | 10/17/03 | 01/14/04 | CBI | (G) Laminating adhesive | (G) Polyurethane
P-04-0051 | 10/17/03 | 01/14/04 | CBI | (G) Destructive use | (G) Substituted aluminoxane
P-04-0052 | 10/17/03 | 01/14/04 | CBI | (G) Open, non-dispersive (resin) | (G) Cationic polyacrylamide
P-04-0053 | 10/17/03 | 01/14/04 | Toyo Color America, LLC | (S) Ultra violet curable monomer for optical lens | (S) 2-propenoic acid, 1,9-nonanediyl ester
P-04-0054 | 10/22/03 | 01/19/04 | Ashland Inc., Environmental Health and Safety | (G) Adhesive, coating, ink | (G) Multifunctional acrylate oligomer resin
P-04-0055 | 10/22/03 | 01/19/04 | Ashland Inc., Environmental Health and Safety | (G) Adhesive, coating, ink | (G) Multifunctional acrylate oligomer resin
P-04-0056 | 10/22/03 | 01/19/04 | Ashland Inc., Environmental Health and Safety | (G) Adhesive, coating, ink | (G) Multifunctional acrylate oligomer resin
P-04-0057 | 10/22/03 | 01/19/04 | Ashland Inc., Environmental Health and Safety | (G) Adhesive, coating, ink | (G) Multifunctional acrylate oligomer resin
P-04-0058 | 10/22/03 | 01/19/04 | Ashland Inc., Environmental Health and Safety | (G) Adhesive, coating, ink | (G) Multifunctional acrylate oligomer resin
P-04-0059 | 10/22/03 | 01/19/04 | Ashland Inc., Environmental Health and Safety | (G) Adhesive, coating, ink | (G) Multifunctional acrylate oligomer resin
P-04-0060 | 10/21/03 | 01/18/04 | CBI | (G) Coating component | (G) Substituted metal complex
P-04-0061 | 10/21/03 | 01/18/04 | CBI | (G) Coating component | (G) Substituted metal complex
P-04-0062 | 10/21/03 | 01/18/04 | CBI | (G) Coating component | (G) Modified metal complex
P-04-0063 | 10/21/03 | 01/18/04 | CBI | (G) Adhesive-closed system | (G) Aromatic copolyamic acid
P-04-0064 | 10/21/03 | 01/18/04 | CBI | (S) Inks; coatings | (G) Polyester acrylate
P-04-0065 | 10/21/03 | 01/18/04 | CBI | (G) Surfactant | (G) Alkylammonium ether sulfate
P-04-0066 | 10/22/03 | 01/19/04 | CBI | (G) Coatings, adhesives and printing plates | (G) Polybutadiene acrylate
P-04-0067 | 10/22/03 | 01/19/04 | CBI | (G) Coatings, adhesives and printing plates | (G) Polybutadiene acrylate
P-04-0068 | 10/22/03 | 01/19/04 | CBI | (S) Ingredient in fragrance compound | (S) 3-pentanol, 2,2,4-trimethyl-1-[(2-methyl-2-propenyl)oxy]-
P-04-0069 | 10/23/03 | 01/20/04 | CBI | (G) Adhesion promoter for coatings | (G) Acid modified chlorinated polyolefin
P-04-0070 | 10/23/03 | 01/20/04 | CBI | (G) Additive, open, non-dispersive | (G) Polyether fatty acid ester
P-04-0071 | 10/23/03 | 01/20/04 | CBI | (G) Additive, open, non-dispersive | (G) Silicone containing acidic polyester
P-04-0072 | 10/23/03 | 01/20/04 | CBI | (G) Additive, open, non-dispersive | (G) Acidic polyester
P-04-0073 | 10/23/03 | 01/20/04 | The Dow Chemical Company | (S) Ultra violet curable resin for coatings | (G) Vinyl ester of epichlorohydrin/bisphenol-a polymer
P-04-0074 | 10/23/03 | 01/20/04 | The Dow Chemical Company | (S) Ultra violet curable resin for coatings | (G) Vinyl ester of epichlorohydrin/bisphenol-a polymer
P-04-0075 | 10/24/03 | 01/21/04 | CBI | (S) Viscosity modifier for the manufacture of ink vehicles | (G) Modified aluminum alkoxide
P-04-0076 | 10/27/03 | 01/24/04 | CBI | (G) Resin coating | (G) Polyester acrylate
P-04-0077 | 10/27/03 | 01/24/04 | CBI | (G) Polymer material for pigment | (G) Acrylic copolymer
P-04-0078 | 10/27/03 | 01/24/04 | CBI | (G) Polymer material for pigment | (G) Acrylic copolymer
P-04-0079 | 10/27/03 | 01/24/04 | CBI | (S) Monomer used in the production of reactive polymers for surface coating materials and other polymer intermediates [open / non-dispersive use] | (G) Halogen-substituted oxetane
P-04-0080 | 10/27/03 | 01/24/04 | CBI | (S) Monomer used in the production of reactive polymers for surface coating materials and other polymer intermediates [open / non-dispersive use] | (G) Halogen-substituted oxetane
P-04-0081 | 10/27/03 | 01/24/04 | CBI | (S) Thickness and rheology modifiers for emulsion paint | (G) Polyalkylene glycol, alkyl ether, reaction products with diisocyanatoalkane and polyalkylene glycol
P-04-0082 | 10/27/03 | 01/24/04 | CBI | (S) Thickness and rheology modifiers for emulsion paint | (G) Polyalkyene glycol, alkyl ether, reaction products with diisocyanatoalkane and polyalkylene glycol
P-04-0083 | 10/27/03 | 01/24/04 | CBI | (S) Water proofing for fibersheets | (S) Amines, N-C16-22-alkyltrimethylenedi-
P-04-0084 | 10/28/03 | 01/25/04 | CBI | (G) Component of paper or plastic coating | (G) Substituted acrylate polymer
P-04-0085 | 10/28/03 | 01/25/04 | CBI | (S) Thickener for coating Colors applied to paper and paperboard | (G) Acrylic-acrylonitrile copolymer
P-04-0086 | 10/28/03 | 01/25/04 | CBI | (G) Industrial corrosion inhibitor | (G) C16-18 fatty acid product with polyethylene, phosphonomethylated
P-04-0087 | 10/28/03 | 01/25/04 | CBI | (S) Siloxane polymer used as a raw material in photoresist | (G) Blocked siloxane polymer
P-04-0088 | 10/29/03 | 01/26/04 | Shin-Etsu silicones of America Inc. | (S) Sealant | (G) Silicone modified acrylic polymer
P-04-0089 | 10/29/03 | 01/26/04 | CIBA Specialty Chemicals Corporation | (S) Photoinitiator for overprint varnishes and printing inks | (G) Aromatic compound-photoinitiator
P-04-0090 | 10/29/03 | 01/26/04 | CBI | (G) Rust inhibition reagent | (G) Triazine derivative
P-04-0091 | 10/29/03 | 01/26/04 | R. T. Vanderbilt Company, Inc. | (S) Anti-wear and antioxidant additive for lubricants, especially greases | (S) Carbamodithioic acid, dipentyl-, compound with n-pentyl-1-pentanamine (1:1)
P-04-0092 | 10/29/03 | 01/26/04 | R. T. Vanderbilt Company, Inc. | (S) Anti-wear and antioxidant additive for lubricants, especially greases | (S) Carbamodithioic acid, bis(2-ethylhexyl)-, compound with 2-ethyl-n-(2-ethylhexyl)-1-hexanamine (1:1)
P-04-0093 | 10/29/03 | 01/26/04 | R. T. Vanderbilt Company, Inc. | (S) Anti-wear and antioxidant additive for lubricants, especially greases | (G) Dialkylamine dialkyldithiocarbamate
P-04-0094 | 10/29/03 | 01/26/04 | R. T. Vanderbilt Company, Inc. | (S) Anti-wear and antioxidant additive for lubricants, especially greases | (S) Carbamodithioic acid, ditridecyl-, branched, compounds with branched n-tridecyl-1-tridecanamine
P-04-0095 | 10/29/03 | 01/26/04 | CBI | (G) Open, non-dispersive (resin) | (G) Polyurethane dispersion
P-04-0096 | 10/30/03 | 01/27/04 | CBI | (G) Reactive additive for a coating formulation | (G) Functionalized diether
P-04-0097 | 10/31/03 | 01/28/04 | Zeon Chemicals L.P. | (S) Polymerization monomer | (G) Cycloaliphatic ester
P-04-0098 | 10/31/03 | 01/28/04 | CBI | (G) Resin coating | (G) Urethane acrylate
P-04-0099 | 10/31/03 | 01/28/04 | Engelhard Corporation | (G) Intermediate | (G) Intermediate for diazo yellow pigment
P-04-0100 | 11/03/03 | 01/31/04 | CBI | (G) Open, non-dispersive (bulking agent) | (G) Fatty acid amide amine
P-04-0101 | 11/03/03 | 01/31/04 | CBI | (G) Emulsifier | (G) Polyolefin aminoester
P-04-0102 | 11/03/03 | 01/31/04 | Degussa Corporation | (S) Coating systems and printing inks | (G) Aqueous ketone-aldehyde resin
P-04-0103 | 11/03/03 | 01/31/04 | CBI | (S) Automotive industry | (G) Cycloaliphaticdiisocyanate, homopolymer, compound with alkanedioic acid ester
P-04-0104 | 10/31/03 | 01/28/04 | Johnson Polymer | (G) Polymeric coating vehicle | (G) Acrylic copolymer
P-04-0105 | 11/04/03 | 02/01/04 | CBI | (G) Water removal and drag reduction for transport of liquids and gases | (G) Alkyl oxirane - epichlorohydrin - alkyl bis(phenol) - polyhydroxy polyol
P-04-0106 | 11/04/03 | 02/01/04 | Transmare Houston Inc. | (S) Carrier for herbicides and pesticides; paint and ink formulations; indoor heating oil; solvent blend for cleaning | (S) Alkanes, C8-12-branched and linear
P-04-0107 | 11/05/03 | 02/02/04 | Eastman Kodak Company | (G) Contained use in digital and imaging products | (G) Substituted amino ethane sulfonic acid salt
P-04-0108 | 11/05/03 | 02/02/04 | Conocophillips Company | (S) Olefin manufacturing feedstock; Specialty solvents; alcohol denaturant; fuel blendstock | (G) Naphtha
P-04-0109 | 11/06/03 | 02/03/04 | CBI | (G) Reactant in thermoset coating or adhesive formulation; degree of containment --- (c) open, non-dispersive use | (G) Amine prepolymer
P-04-0110 | 11/06/03 | 02/03/04 | Archer Daniels Midland Company | (S) Co-adhesive for composite panel products | (S) Linseed oil, conjugated
P-04-0111 | 11/06/03 | 02/03/04 | CBI | (S) Plasticizer for concrete and cement | (G) Polycarboxylated ether
P-04-0112 | 11/10/03 | 02/07/04 | CBI | (G) Open non-dispersive (resin) | (G) Polyester polyurethane resin
P-04-0113 | 11/10/03 | 02/07/04 | CBI | (G) Open non-dispersive (acrylate resin) | (G) Acrylic acid ester
P-04-0114 | 11/10/03 | 02/07/04 | International flavors and; Fragrances Inc. | (S) Raw material for use in fragrances for soaps, detergents, cleaners and other household products | (S) 94-98%indeno[4,4-d]-1,3-dioxin, 4, 4a, 5, 6, 7, 8, 9, 9b-octahydro-7,7,8,9,9-pentamethyl
P-04-0115 | 11/07/03 | 02/04/04 | Zeon Chemicals L.P. | (S) Electron beam resist in the manufacture of ic chips and masks via microlithography processes | (S) 2-propenoic acid, 2-chloro-, methyl ester, polymer with (1-methylethenyl)benzene
P-04-0116 | 11/12/03 | 02/09/04 | CBI | (G) Coating resin for open, no-dispersive use | (G) Amino alkyl alcohol modified fluoropolymer
P-04-0117 | 11/12/03 | 02/09/04 | BASF Corporation | (S) Additive for ink jet printing inks | (S) 1,2-pentanediol
P-04-0118 | 11/12/03 | 02/09/04 | Invista Inc. | (S) Intermediate for polymer manufacture | (G) Triamine adipate salt
P-04-0119 | 11/12/03 | 02/09/04 | Invista Inc. | (G) Polymer for fiber | (G) Aliphatic polyamide
P-04-0120 | 11/12/03 | 02/09/04 | Forbo Adhesives, LLC | (G) Hot melt polyurethane adhesive | (G) Isocyanate functional polyester polyether urethane polymer
P-04-0121 | 11/10/03 | 02/07/04 | CBI | (G) Laminating adhesive | (G) Polyurethane
P-04-0122 | 11/13/03 | 02/10/04 | CBI | (G) Rubber elastomer for tires, wheels, rolls and other Specialty urethane applications | (G) Mdi/carbonate prepolymer
P-04-0123 | 11/13/03 | 02/10/04 | CBI | (G) Rubber elastomer for tires, wheels, rolls and other Specialty urethane applications | (G) Ppdi/carbonate/caprolactone/ether prepolymer
P-04-0124 | 11/14/03 | 02/11/04 | CBI | (G) Controlled release of catalyst | (G) Polymethylene polyphenylene polyurea polymer
P-04-0125 | 11/17/03 | 02/14/04 | CIBA Specialty Chemicals Corporation, Textile Effects | (S) Exhaust dyeing of cellulosic fibers | (G) Reaction products of substituted benzenesulfonic acid azo substituted phenyl amino compound and substituted amino phenyl compound
P-04-0126 | 11/17/03 | 02/14/04 | CBI | (S) Flame retardant for plastic articles | (G) Diphosphoric acid, amine salt
P-04-0127 | 11/18/03 | 02/15/04 | CBI | (G) Fuel additive | (G) Polyether/allylphenol modified siloxane
P-04-0128 | 11/19/03 | 02/16/04 | Eastman Kodak Company | (G) Contained use in an article | (G) Heterocyclic substituted butanoic acid ester
P-04-0129 | 11/18/03 | 02/15/04 | Ashland Inc., Environmental Health and; Safety | (G) Raw material in higher molecular weight polymer product | (G) Multifunctional acrylate oligomer resin
P-04-0130 | 11/17/03 | 02/14/04 | CBI | (G) Viscosity index improver | (G) Alkyl methacrylates copolymer
P-04-0131 | 11/20/03 | 02/17/04 | CBI | (G) Open, non-dispersive use | (G) Blocked isocyanate resin
P-04-0132 | 11/20/03 | 02/17/04 | CBI | (G) Additive for industrial applications | (G) Ethylhexyl oxetane
P-04-0133 | 11/19/03 | 02/16/04 | CBI | (S) Dispersing and wetting agent | (G) Polyester polyamide
P-04-0134 | 11/20/03 | 02/17/04 | CIBA Specialty Chemicals Corporation, Textile effects | (S) Continuous dyeing of nylon carpet | (G) Reaction products of substituted amino anthracenesulfonic acid and substituted triazine amino phenyl compound
P-04-0135 | 11/21/03 | 02/18/04 | CBI | (G) Open non-dispersive (polyurethane lacquer) | (G) Polyester urethane
P-04-0136 | 11/21/03 | 02/18/04 | CBI | (S) Production of molded or extruded articles or as component of other industrial products | (G) Polyetherimide polymer
P-04-0137 | 11/21/03 | 02/18/04 | CBI | (G) Emulsifier for emulsion polymerization | (G) Polyalkylene glycol alkyl ether sulfate, reaction products with allyl glycidyl ether, ammonium salt
P-04-0138 | 11/21/03 | 02/18/04 | CBI | (G) Component of paper or plastic coating | (G) Substituted acrylate polymer
P-04-0139 | 11/24/03 | 02/21/04 | CBI | (G) Additive for various cleaners | (G) Modified amidoamine
P-04-0140 | 11/24/03 | 02/21/04 | CBI | (G) Additive for cleaning products | (G) Fatty acid ester salt
P-04-0141 | 11/24/03 | 02/21/04 | CBI | (G) Additive for various cleaners | (G) Modified aminoamine
P-04-0142 | 11/24/03 | 02/21/04 | CBI | (G) Additive for various cleaners | (G) Modified amidoamine
P-04-0143 | 11/24/03 | 02/21/04 | CBI | (G) Additive for various cleaners | (G) Modified amidoamine
P-04-0144 | 11/24/03 | 02/21/04 | CBI | (G) Chemical intermediate; destructive use | (G) Modified amidoamine
P-04-0145 | 11/24/03 | 02/21/04 | CBI | (G) Open non-dispersive (coating material) | (G) Polyisocyanate
P-04-0146 | 11/25/03 | 02/22/04 | Solvay Fluorides, Inc. | (S) Flux for brazing aluminum | (S) Potassium zinc fluoride
P-04-0147 | 11/25/03 | 02/22/04 | CBI | (G) Chemical intermediate | (S) Hydroxylamine, o-[(2e)-3-chloro-2-propyl]-
P-04-0148 | 11/25/03 | 02/22/04 | CBI | (G) Paraffin inhibitor | (G) Olefin - maleic anhydride esterified polymer
P-04-0149 | 11/25/03 | 02/22/04 | Invista Inc. | (G) Polymer for fiber | (G) Aliphatic polyamide
P-04-0150 | 11/25/03 | 02/22/04 | CBI | (S) Fertilizer for turf and crops | (S) Seaweed extract (saragassum thumbergii)
P-04-0151 | 11/25/03 | 02/22/04 | CBI | (S) Bicyclic tertiary amine salt used as a photoresist component | (G) Bicylic tertiary amine salt
P-04-0152 | 11/28/03 | 02/25/04 | CBI | (G) Resin coating | (G) Polyester acrylate

In Table II of this unit, EPA provides the following information (to the extent that such information is not claimed as CBI) on the Notices of Commencement to manufacture received:

II. 80 Notices of Commencement From: 10/01/03 to 11/28/03
Case No. | Received Date | Commencement Notice End Date | Chemical
P-00-0119 | 11/12/03 | 10/10/03 | (G) Polyol ester
P-00-0157 | 11/17/03 | 10/17/03 | (G) Organo silane ester
P-00-0406 | 10/08/03 | 03/26/01 | (G) Calcium fatty acid complex
P-00-0900 | 10/06/03 | 09/12/03 | (G) Polyalkene, sulfonated
P-00-0901 | 10/06/03 | 09/17/03 | (G) Polyalkylene sulfonate, salts
P-01-0292 | 10/20/03 | 10/10/03 | (S) Silane, trimethoxyoctyl-
P-01-0527 | 10/29/03 | 10/09/03 | (G) Polyester polyol
P-01-0637 | 11/20/03 | 11/10/03 | (G) Polyurethane resin
P-01-0728 | 11/03/03 | 10/14/03 | (G) Oligomeric ester, capped with iso-alcohols
P-01-0790 | 11/04/03 | 10/10/03 | (G) Aluminum alkoxide complex
P-02-0587 | 10/23/03 | 10/08/03 | (G) Polyester polyether isocyanate
P-02-0693 | 10/01/03 | 09/15/03 | (G) Saturated hydrocarbon
P-02-0795 | 11/17/03 | 10/26/03 | (G) Copolymer
P-02-0797 | 11/17/03 | 10/26/03 | (G) Copolymer
P-02-0873 | 10/28/03 | 10/01/03 | (G) Polyurethane prepolymer
P-02-1013 | 11/05/03 | 07/24/03 | (G) Modified polyvinyl butyral
P-03-0007 | 11/18/03 | 09/04/03 | (G) Alkyl cinnamic aldehyde
P-03-0035 | 11/25/03 | 10/27/03 | (G) Alkene acrylate copolymer
P-03-0045 | 11/05/03 | 09/30/03 | (S) Glycerides, soya mono- and di-, phosphates, sodium salts
P-03-0047 | 11/26/03 | 11/11/03 | (S) Benzenemethanaminium, n-(3-aminopropyl)-n,n-dimethyl-, n-soya acyl derivs., chlorides
P-03-0176 | 10/10/03 | 09/11/03 | (G) Urethane acrylate
P-03-0181 | 11/25/03 | 10/27/03 | (G) Amino resin modified polyether polyurethane
P-03-0182 | 10/29/03 | 10/03/03 | (G) Polysulfonated dpo/diphone
P-03-0194 | 10/21/03 | 09/30/03 | (G) Bis[phenyl, 2h-1,3-benzoxazine] derivative
P-03-0227 | 10/07/03 | 09/09/03 | (G) Substituted phenolic resin
P-03-0258 | 10/07/03 | 09/26/03 | (S) 2,5-furandione, dihydro-3-[3-(triethoxysilyl)propyl]-
P-03-0276 | 10/31/03 | 10/16/03 | (G) Polyalkylenecarbonate diol
P-03-0277 | 10/31/03 | 10/16/03 | (G) Polyalkylenecarbonate diol
P-03-0301 | 10/07/03 | 09/29/03 | (G) Vinyl acrylic emulsion polymer
P-03-0329 | 11/06/03 | 10/21/03 | (G) Trialkylamine salt of substituted alkyarylpolyurethane
P-03-0343 | 10/17/03 | 09/12/03 | (G) Acrylic polymer
P-03-0344 | 10/17/03 | 09/30/03 | (G) Acrylic polymer
P-03-0362 | 10/28/03 | 10/23/03 | (G) Thionocarbamate derivative or modified thionocarbamate
P-03-0423 | 10/17/03 | 10/01/03 | (G) Modified polyol
P-03-0438 | 11/21/03 | 11/09/03 | (G) Polyether modified polyurethane urea
P-03-0439 | 10/07/03 | 10/01/03 | (G) Polyether modified polyurethane urea
P-03-0451 | 11/14/03 | 10/27/03 | (G) Silicone polyether
P-03-0478 | 10/08/03 | 09/29/03 | (G) Substituted -9,10-dihydro-9,10-dioxo-anthracentyl-phenylhalo compound
P-03-0479 | 10/08/03 | 09/29/03 | (G) Substituted -9,10-dihydro-9,10-dioxo-anthracentyl-phenylhalo compound
P-03-0480 | 10/08/03 | 09/29/03 | (G) Substituted -9,10-dihydro-9,10-dioxo-anthracentyl-phenylhalo compound
P-03-0484 | 11/12/03 | 10/24/03 | (G) Fatty ester
P-03-0502 | 11/18/03 | 10/31/03 | (S) Benzene, ethenyl-, polymer with cyclopentene and 1,3-pentadiene
P-03-0518 | 11/20/03 | 11/06/03 | (G) Acrylic polymer
P-03-0528 | 11/12/03 | 10/19/03 | (G) 2-propenoic acid, 2-methyl-, polymer with 1,2-ethanediyl bis(2-methyl-2-propenoate), 2-ethyl-2-[[(2-methyl-1-oxo-2-propenyl)oxy]methyl]-1,3-propanediyl bis(2-methyl-2-propenoate) and methyl 2-methyl-2-propenoate, compound with-imidazole
P-03-0530 | 10/10/03 | 09/11/03 | (G) Salt of a polyalkylenepolyamine derivative
P-03-0531 | 10/10/03 | 09/11/03 | (G) Salt of mixed fatty amidoamines
P-03-0536 | 11/06/03 | 10/21/03 | (G) Polymer of substituted allylamine
P-03-0554 | 10/08/03 | 09/10/03 | (G) Polyurethane
P-03-0555 | 10/15/03 | 10/03/03 | (G) Isocyanate functional polyester polyether urethane polymer
P-03-0563 | 11/25/03 | 10/29/03 | (S) 2-propenoic acid, 2-methyl-, 2-ethyltricyclo[3.3.1.13,7]dec-2-yl ester
P-03-0565 | 11/25/03 | 11/20/03 | (S) 2-propenoic acid, 2-methyltricyclo[3.3.1.13,7]dec-2-yl ester
P-03-0573 | 10/28/03 | 10/24/03 | (G) Polyester resin
P-03-0581 | 10/08/03 | 09/24/03 | (G) Telechelic polyacrylate
P-03-0583 | 10/10/03 | 09/11/03 | (G) Polyurethane
P-03-0584 | 11/18/03 | 11/05/03 | (G) Urethane acrylate
P-03-0585 | 10/07/03 | 09/27/03 | (S) 1,3-benzenedisulfonic acid, 4-[bis[4-(diethylamino)phenyl]methyl]-6-hydroxy-
P-03-0588 | 11/26/03 | 11/02/03 | (G) Polycarboxylate polymer with alkenyloxyalkylol modified poly(oxyalkylenediyl), calcium sodium salt
P-03-0590 | 10/16/03 | 10/08/03 | (S) 1-hexanol, 3-mercapto-
P-03-0609 | 11/17/03 | 11/04/03 | (G) Oligomer of aromatic, alkyl amines and alkyl epoxide
P-03-0613 | 11/12/03 | 10/07/03 | (G) Modified diaryliodoniumhexafluoroantimonate
P-03-0623 | 11/21/03 | 10/29/03 | (G) Amino epoxy silane
P-03-0635 | 11/04/03 | 10/09/03 | (G) Acrylate, acrylonitrile, butadiene rubber-extended epoxy resin polymer
P-03-0636 | 10/15/03 | 10/02/03 | (G) Epoxy acrylate oligomer
P-03-0644 | 10/10/03 | 10/02/03 | (G) Acrylate ester
P-03-0646 | 10/15/03 | 09/23/03 | (G) Cationic amine salt epoxy resin
P-03-0648 | 10/30/03 | 10/10/03 | (S) 2-propenoic acid, 2-methyl-, 1,2-ethanediyl ester, polymer with butyl 2-methyl-2-propenoate
P-03-0651 | 10/15/03 | 10/03/03 | (G) Polyurethane
P-03-0656 | 10/06/03 | 09/24/03 | (S) Fatty acids, sunflower-oil, esters with propylene glycol
P-03-0666 | 11/04/03 | 10/27/03 | (G) Distillation residue from glycol production
P-03-0678 | 11/17/03 | 10/21/03 | (G) Styrene-acrylic copolymer
P-03-0714 | 11/25/03 | 11/13/03 | (G) Aluminum alkoxide complex
P-03-0722 | 10/30/03 | 10/22/03 | (G) Pyrazolone derivative
P-03-0729 | 11/18/03 | 11/10/03 | (G) Alkyleneoxide derivatives
P-03-0731 | 11/24/03 | 10/23/03 | (G) Polypropylene glycol, polymer with a carbomonocyclic diisocyanate, substituted-trialkoxysilane-blocked
P-03-0733 | 11/12/03 | 11/04/03 | (G) Aspartic ester
P-92-0353 | 10/28/03 | 10/01/03 | (G) Substituted polyhydroxy aromatic compound
P-98-0777 | 11/05/03 | 10/13/03 | (S) Mixture of: alpha-d-glucopyranoside, ,1-6-bis-o-(1-oxooctyl)-b-d-fructofuranosyl and alpha-d-glucopyranoside, 6-o-(1-oxooctyl)-b-d-fructofuranosyl
P-98-0943 | 11/12/03 | 10/27/03 | (G) Substituted-[(1,2,3,4-tetrahydro-5,8-dihydroxy-1,4-methanonaphthalene -6,7-diyl)bis(methylene)]bis
P-99-0916 | 10/15/03 | 09/30/03 | (G) Telogen, telomer with alkenes and alkenyl acetate

List of Subjects

Environmental protection, Chemicals, Premanufacturer notices.

Dated: December 4, 2003.
Anthony Cheatham,
Acting Director, Information Management Division, Office of Pollution Prevention and Toxics.

[FR Doc. E3-00565 Filed 12-16-03; 8:45 am]

BILLING CODE 6560-50-S